DEPARTMENT OF HEALTH AND HUMAN SERVICES

National Institutes of Health

National Cancer Institute; Amended Notice of Meeting

Notice is hereby given of a change in the meeting of the National Cancer Institute Special Emphasis Panel, November 06, 2013, 06:30 p.m. to November 07, 2013, 04:00 p.m., Hilton Washington/Rockville, 1750 Rockville Pike, Rockville, MD 20852 which was published in the Federal Register on August 16, 2013, 78 FR 50065.

The meeting notice is amended to change the location from the Hilton Washington/Rockville, 1750 Rockville Pike, Rockville, MD 20852 to Crowne Plaza Washington DC/Rockville, 3 Research Court, Rockville, MD 20850. The meeting is closed to the public.

Dated: September 17, 2013.
Melanie J. Gray,
Program Analyst, Office of Federal Advisory Committee Policy.

[FR Doc. 2013-22990 Filed 9-20-13; 8:45 am]

BILLING CODE 4140-01-P